DEPARTMENT OF COMMERCE

International Trade Administration

[A-570-114]

Certain Glass Containers From the People's Republic of China: Preliminary Affirmative Determination of Sales at Less Than Fair Value, Postponement of Final Determination and Extension of Provisional Measures

AGENCY: Enforcement and Compliance, International Trade Administration, Department of Commerce.

SUMMARY: The Department of Commerce (Commerce) preliminarily determines that certain glass containers (glass containers) from the People's Republic of China (China) are being, or are likely to be, sold in the United States at less than fair value (LTFV). The period of investigation (POI) is January 1, 2019 through June 30, 2019. Interested parties are invited to comment on this preliminary determination.

DATES: Applicable April 29, 2020.

FOR FURTHER INFORMATION CONTACT: Lilit Astvatsatrian or Aleksandras Nakutis, AD/CVD Operations, Office IV, Enforcement and Compliance, International Trade Administration, U.S. Department of Commerce, 1401 Constitution Avenue NW, Washington, DC 20230; telephone: (202) 482-6412 or (202) 482-3147, respectively.

SUPPLEMENTARY INFORMATION:

Background

This preliminary determination is made in accordance with section 733(b) of the Tariff Act of 1930, as amended (the Act). Commerce published the notice of initiation of this investigation on October 21, 2019.¹ On February 19, 2020, Commerce postponed the preliminary determination in this investigation. The revised deadline is now April 22, 2020.² For a complete description of the events that followed the initiation of this investigation, see the Preliminary Decision Memorandum.³ A list of topics included in the Preliminary Decision Memorandum is included as Appendix II to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at http://enforcement.trade.gov/frn/. The signed and the electronic versions of the Preliminary Decision Memorandum are identical in content.

¹ See Certain Glass Containers from the People's Republic of China: Initiation of Less-Than-Fair-Value Investigation, 84 FR 56174 (October 21, 2019) (Initiation Notice).

² See Certain Glass Containers from the People's Republic of China: Postponement of Preliminary Determination in the Less-Than-Fair-Value Investigation, 85 FR 9458 (February 19, 2020).

³ See Memorandum, “Decision Memorandum for the Preliminary Determination in the Less-Than-Fair-Value Investigation of Certain Glass Containers from the People's Republic of China,” dated concurrently with, and hereby adopted by, this notice (Preliminary Decision Memorandum).

Scope of the Investigation

The products covered by this investigation are glass containers from China. For a complete description of the scope of this investigation, see Appendix I.

Scope Comments

In accordance with the preamble to Commerce's regulations,⁴ the Initiation Notice set aside a period of time for parties to raise issues regarding product coverage (i.e., scope).⁵ Certain interested parties commented on the scope of the investigation as it appeared in the Initiation Notice. For a summary of the product coverage comments and rebuttal responses submitted to the record for this investigation, and accompanying discussion and analysis of all comments timely received, see the Preliminary Scope Decision Memorandum.⁶ Commerce is not preliminarily modifying the scope language as it appeared in the Initiation Notice. See the scope in Appendix I to this notice.

⁴ See Antidumping Duties; Countervailing Duties, Final Rule, 62 FR 27296, 27323 (May 19, 1997).

⁵ See Initiation Notice.

⁶ See Memorandum, “Certain Glass Containers from the People's Republic of China: Preliminary Scope Decision Memorandum,” dated April 3, 2020 (Preliminary Scope Decision Memorandum).

Methodology

Commerce is conducting this investigation in accordance with section 731 of the Act. Commerce has calculated export prices in accordance with section 772(a) of the Act. Because China is a non-market economy, within the meaning of section 771(18) of the Act, Commerce has calculated normal value (NV) in accordance with section 773(c) of the Act. For a full description of the methodology underlying Commerce's preliminary determination, see the Preliminary Decision Memorandum.

Combination Rates

In the Initiation Notice,⁷ Commerce explained that it would calculate producer/exporter combination rates for the respondents that are eligible for a separate rate in this investigation. Policy Bulletin 05.1 describes this practice.⁸

⁷ See Initiation Notice, 84 FR 56174.

⁸ See Policy Bulletin No. 05.1, “Separate-Rates Practice and Application of Combination Rates in Antidumping Investigations involving Non-Market Economy Countries,” (April 5, 2005) (Policy Bulletin 05.1), available on Commerce's website at http://enforcement.trade.gov/policy/bull05-1.pdf.

Preliminary Determination

Commerce preliminarily determines that the following estimated weighted-average dumping margins exist:

Producer | Exporter | Estimated weighted- average dumping margin (percent) | Cash deposit rate (adjusted for subsidy offsets) (percent)
Guangdong Huaxing Glass Co., Ltd | Guangdong Huaxing Glass Co., Ltd | 24.90 | 14.36
Foshan Huaxing Glass Co., Ltd | Guangdong Huaxing Glass Co., Ltd | 24.90 | 14.36
Qixia Changyu Glass Co., Ltd | Qixia Changyu Glass Co., Ltd | 7.60 | 0.00
Anhui Longrui Glass Co., Ltd | Anhui Longrui Glass Co., Ltd | 13.76 | 3.22
Xuzhou Ruijing Glass Products Co., Ltd | Golden Ace Industrial Co., Ltd | 13.76 | 3.22
Shandong Huapeng Glass Co., Ltd | Happyann Crafts Int'l Co., Ltd | 13.76 | 3.22
Shenyang Hongye Glass Containers Co., Ltd | Happyann Crafts Int'l Co., Ltd | 13.76 | 3.22
Shandong Pharmaceutical Glass Co., Ltd | Hongkong Happyann Trading Company Limited | 13.76 | 3.22
Shandong Jingbo Groups Co., Ltd | Hongkong Happyann Trading Company Limited | 13.76 | 3.22
Taixing Jili Glass Products Co., Ltd | Hongkong Happyann Trading Company Limited | 13.76 | 3.22
Shanxi Qi County Guanghua Glassware Co., Ltd | Meridian International Ltd | 13.76 | 3.22
Hejian Jiarui Glassware Factory | Meridian International Ltd | 13.76 | 3.22
Shijiazhuang Langxu Arts & Crafts Co., Ltd | Meridian International Ltd | 13.76 | 3.22
Xuzhou Youcheng Glass Products Co., Ltd | Photo USA Electronic Graphic Inc | 13.76 | 3.22
Zibo Deli Glass Products Co., Ltd | Qingdao Gemmy Imp. & Exp. Co., Ltd | 13.76 | 3.22
Shandong Fulong Glass Technology Co., Ltd | Qingdao Gemmy Imp. & Exp. Co., Ltd | 13.76 | 3.22
Shandong Hongda Glass Product Co., Ltd | Qingdao Gemmy Imp. & Exp. Co., Ltd | 13.76 | 3.22
Zibo Shengjie Glass Product Co., Ltd | Qingdao Gemmy Imp. & Exp. Co., Ltd | 13.76 | 3.22
Jinan Guanheping Glass Product Co., Ltd | Qingdao Gemmy Imp. & Exp. Co., Ltd | 13.76 | 3.22
Xuzhou Jiuding Glass Product Co., Ltd | Qingdao Gemmy Imp. & Exp. Co., Ltd | 13.76 | 3.22
Zibo Jiurun Glass Product Co., Ltd | Qingdao Gemmy Imp. & Exp. Co., Ltd | 13.76 | 3.22
Shandong Zibo Boshan Jiuyuan Company | Qingdao Gemmy Imp. & Exp. Co., Ltd | 13.76 | 3.22
Xuzhou Yichen Glass Product Co., Ltd | Qingdao Gemmy Imp. & Exp. Co., Ltd | 13.76 | 3.22
Laiwu Dongjing Industry & Trade Co., Ltd | Qingdao Gemmy Imp. & Exp. Co., Ltd | 13.76 | 3.22
Shandong Dingxin Electronic Glass Group Co., Ltd | Qingdao Huoyan Phoenix Import & Export Co., Ltd | 13.76 | 3.22
Zhejiang Caifu Glass Co., Ltd | Qingdao Huoyan Phoenix Import & Export Co., Ltd | 13.76 | 3.22
Shangdong Changshengtai Glass Products Co., Ltd | Shandong Changshengtai Glass Products Co., Ltd | 13.76 | 3.22
Shandong Dingxin Electronic Glass Group Co., Ltd | Shandong Dingxin Electronic Glass Group Co., Ltd | 13.76 | 3.22
Shandong Hongda Glass Ware Co., Ltd | Shandong Excel Light Industrial Products Co., Ltd | 13.76 | 3.22
Shandong Hongda Glass Ware Co., Ltd | Shandong Glassware Corporation | 13.76 | 3.22
Shangdong Changshengtai Glass Products Co., Ltd | Shandong Glassware Corporation | 13.76 | 3.22
Shandong Luguan Glass Products Co., Ltd | Shandong Glassware Corporation | 13.76 | 3.22
Jinan Yida Glass Products Co., Ltd | Shandong Glassware Corporation | 13.76 | 3.22
Shandong Heishan Glass Group Co., Ltd | Shandong Heishan Glass Group Co., Ltd | 13.76 | 3.22
Shandong Hongda Glass Products Co., Ltd | Shandong Honghan International Trading Co., Ltd | 13.76 | 3.22
Shandong Jusheng Glass Co., Ltd | Shandong Honghan International Trading Co., Ltd | 13.76 | 3.22
Xuzhou Zhuoxin Glass Products Co., Ltd | Shandong Honghan International Trading Co., Ltd | 13.76 | 3.22
Shandong Huapeng Glass Co., Ltd | Shandong Huapeng Glass Co., Ltd | 13.76 | 3.22
Zibo Hongda Glass Products Co., Ltd | Shandong Injoy Houseware Co., Ltd | 13.76 | 3.22
Zibo Zhide Light Industry Products Co., Ltd | Shandong Injoy Houseware Co., Ltd | 13.76 | 3.22
Shandong Fulong Glass Technology Co., Ltd | Shandong Injoy Houseware Co., Ltd | 13.76 | 3.22
Xuzhou Ruijing Glass Products Co., Ltd | Shandong Injoy Houseware Co., Ltd | 13.76 | 3.22
Cao County Jiefeng Crafts Co., Ltd | Shandong Injoy Houseware Co., Ltd | 13.76 | 3.22
Zibo Longsheng Glass Products Co., Ltd | Shandong Injoy Houseware Co., Ltd | 13.76 | 3.22
Zibo Boshan Shengjie Glass Products Co., Ltd | Shandong Injoy Houseware Co., Ltd | 13.76 | 3.22
Shandong Baoxiang Glass Co., Ltd | Shandong Injoy Houseware Co., Ltd | 13.76 | 3.22
Shandong Jiaye General Merchandise Co., Ltd | Shandong Jiaye General Merchandise Co., Ltd | 13.76 | 3.22
Shandong Pharmaceutical Glass Co., Ltd | Shandong Pharmaceutical Glass Co., Ltd | 13.76 | 3.22
Shandong Hongda Glass Factory | Shandong Shine Chin Glassware Co., Ltd | 13.76 | 3.22
Shandong Juli Glass Co., Ltd | Shandong Top-Peak Enterprise Co., Ltd | 13.76 | 3.22
Shandong Wenbao Technology Products Co., Ltd | Shandong Wenbao Technology Products Co., Ltd | 13.76 | 3.22
Changxing Hua Zhong Glass Co., Ltd | Sinoglass Housewares Co., Ltd | 13.76 | 3.22
Xuzhou Xupeng Glass Products Co., Ltd | Xuzhou Credible Glass Products Co., Ltd | 13.76 | 3.22
Xuzhou Sanheshun Glass Products Co., Ltd | Xuzhou Credible Glass Products Co., Ltd | 13.76 | 3.22
Shandong Pharmaceutical Glass Co., Ltd | Xuzhou Das Packing Solutions Co., Ltd | 13.76 | 3.22
Taizhou Paishen Printing Industry Co., Ltd | Xuzhou Das Packing Solutions Co., Ltd | 13.76 | 3.22
Xuzhou Runtong Cap Manufacturing Co., Ltd | Xuzhou Das Packing Solutions Co., Ltd | 13.76 | 3.22
Xuzhou Jiuding Glass Products Co., Ltd | Xuzhou Das Packing Solutions Co., Ltd | 13.76 | 3.22
Xuzhou Juli Bottle Cap Factory | Xuzhou Das Packing Solutions Co., Ltd | 13.76 | 3.22
Yangzhou Jiangyang Plastic Products Factory | Xuzhou Das Packing Solutions Co., Ltd | 13.76 | 3.22
Yiwu Hongyuan Glass Products Co., Ltd | Xuzhou Das Packing Solutions Co., Ltd | 13.76 | 3.22
Xuzhou Zhending Glass Products Co., Ltd | Xuzhou Das Packing Solutions Co., Ltd | 13.76 | 3.22
Xuzhou Rongjian Glass Products Co., Ltd | Xuzhou Das Packing Solutions Co., Ltd | 13.76 | 3.22
Xuzhou Tepu Glass Products Co., Ltd | Xuzhou Das Packing Solutions Co., Ltd | 13.76 | 3.22
Zibo Zhulifei International Trade Co., Ltd | Xuzhou Das Packing Solutions Co., Ltd | 13.76 | 3.22
Nantong Shunyu Packing Materials Co., Ltd | Xuzhou Das Packing Solutions Co., Ltd | 13.76 | 3.22
Ningbo Letao Packing Co., Ltd | Xuzhou Das Packing Solutions Co., Ltd | 13.76 | 3.22
Xuzhou Supeng Yongxu Glass Products Co., Ltd | Xuzhou Huihe International Trade Co., Ltd | 13.76 | 3.22
Yamamura Glass Qinhuangdao Co., Ltd | Yamamura Glass Qinhuangdao Co., Ltd | 13.76 | 3.22
Feicheng Jingying Glass Products Co., Ltd | Zibo Ace International Co., Ltd | 13.76 | 3.22
Zibo Boshan Shengjie Glass Products Co., Ltd | Zibo Ace International Co., Ltd | 13.76 | 3.22
Zibo Anto Glass Industry Co., Ltd | Zibo Anto Glass Industry Co., Ltd | 13.76 | 3.22
Shandong Heishan Glass Group Co., Ltd | Zibo Comm-Mountain Glassware Co., Ltd | 13.76 | 3.22
Yantai NBC Glass Packaging Co., Ltd | Zibo Creative International Trade Co., Ltd | 13.76 | 3.22
Shandong Taishan Shengliyuan Glass Co., Ltd | Zibo Creative International Trade Co., Ltd | 13.76 | 3.22
Shanghai Esjoi Industry Co., Ltd | Zibo Creative International Trade Co., Ltd | 13.76 | 3.22
Longkou Shengda Glass Products Co., Ltd | Zibo Creative International Trade Co., Ltd | 13.76 | 3.22
Shandong Pharmaceutical Glass Co., Ltd | Zibo Creative International Trade Co., Ltd | 13.76 | 3.22
Qingdao Yutai Pharmaceutical Packaging Technology Co., Ltd | Zibo Creative International Trade Co., Ltd | 13.76 | 3.22
Shandong Jingbo Group Co., Ltd | Zibo Creative International Trade Co., Ltd | 13.76 | 3.22
Shandong Huapeng Glass Co., Ltd | Zibo Derola Houseware Co., Ltd | 13.76 | 3.22
Hebei Xinji Tianyu Glass, Ltd | Zibo Derola Houseware Co., Ltd | 13.76 | 3.22
Zibo Hongda Glass Products Co., Ltd | Zibo E&T General Merchandise Co., Ltd | 13.76 | 3.22
Xuzhou Hengyi Glass Products Co. Ltd | Zibo Fecund Trading Co., Ltd | 13.76 | 3.22
Xuzhou Yichen Glass Products Co., Ltd | Zibo Fortune Trading Co., Ltd | 13.76 | 3.22
Zibo Longsheng Glass Products Co., Ltd | Zibo Grandeur Light Industrial Products Co., Ltd | 13.76 | 3.22
Shandong Hongda Glass Products Co., Ltd | Zibo Green Light Industrial Co., Ltd | 13.76 | 3.22
Shandong Baoxiang Glass Co., Ltd also known as Zibo Gongmao Glass Factory | Zibo Green Light Industrial Co., Ltd | 13.76 | 3.22
Zibo Haichang Light Industry Products Co., Ltd | Zibo Hicheon Homeware Corp., Ltd | 13.76 | 3.22
Shandong Longyu Glass Co., Ltd | Zibo Hicheon Homeware Corp., Ltd | 13.76 | 3.22
Zibo Hesheng Glass Products Co., Ltd | Zibo Hicheon Homeware Corp., Ltd | 13.76 | 3.22
Xuzhou Xindong Glass Products Co., Ltd | Zibo Hicheon Homeware Corp., Ltd | 13.76 | 3.22
Zibo Jintian Light Industry Products Co., Ltd | Zibo Hicheon Homeware Corp., Ltd | 13.76 | 3.22
Zhangqiu City Huacheng Glass Products Factory | Zibo Hicheon Homeware Corp., Ltd | 13.76 | 3.22
Qingdao Golden Sunshine Paper Products Co., Ltd | Zibo Hicheon Homeware Corp., Ltd | 13.76 | 3.22
Shandong Yiyuan Oukai Glass Products Co., Ltd | Zibo Hicheon Homeware Corp., Ltd | 13.76 | 3.22
Shandong Hongda Glassware Co., Ltd | Zibo Intrue Light Industrial Products Co., Ltd | 13.76 | 3.22
Feicheng Jingying Glass Products Co., Ltd | Zibo Intrue Light Industrial Products Co., Ltd | 13.76 | 3.22
Shandong Changshengtai Glass Products Co., Ltd | Zibo Intrue Light Industrial Products Co., Ltd | 13.76 | 3.22
Jinan Yida Glassware Co., Ltd | Zibo Intrue Light Industrial Products Co., Ltd | 13.76 | 3.22
Jiangsu Luobote Glass Technology Co., Ltd | Zibo Intrue Light Industrial Products Co., Ltd | 13.76 | 3.22
Jiangsu Zheng Mao Glass Technology Co., Ltd | Zibo Intrue Light Industrial Products Co., Ltd | 13.76 | 3.22
Shandong Luguan Glass Co., Ltd | Zibo Intrue Light Industrial Products Co., Ltd | 13.76 | 3.22
Shandong Mount Tai Sheng Li Yuan Glass Co., Ltd | Zibo Intrue Light Industrial Products Co., Ltd | 13.76 | 3.22
Xuzhou Heng Yi Glassware Co., Ltd | Zibo Intrue Light Industrial Products Co., Ltd | 13.76 | 3.22
Jiangsu Honghua Glass Technology Co., Ltd | Zibo Intrue Light Industrial Products Co., Ltd | 13.76 | 3.22
Xuzhou Shengbang Glass Technology Co., Ltd | Zibo Intrue Light Industrial Products Co., Ltd | 13.76 | 3.22
Xuzhou Sheng Shi Glass Products Co., Ltd | Zibo Intrue Light Industrial Products Co., Ltd | 13.76 | 3.22
Shandong Baoxiang Glass Co., Ltd | Zibo Intrue Light Industrial Products Co., Ltd | 13.76 | 3.22
Zibo Longyu Glass Co., Ltd | Zibo Intrue Light Industrial Products Co., Ltd | 13.76 | 3.22
Shandong Yueshi Glass Products Co., Ltd | Zibo Intrue Light Industrial Products Co., Ltd | 13.76 | 3.22
Zibo Lijiang Light Industrial Products Co., Ltd | Zibo Lijiang Light Industrial Products Co., Ltd | 13.76 | 3.22
Zibo Boshan Shengjie Glass Products Co., Ltd | Zibo Lucky Ship International Trading Co., Ltd | 13.76 | 3.22
Jiangsu Rongtai Glass Products Co., Ltd | Zibo Lucky Ship International Trading Co., Ltd | 13.76 | 3.22
Jinan Yida Glass Products Co., Ltd | Zibo Lucky Ship International Trading Co., Ltd | 13.76 | 3.22
Shandong Luguan Glass Products Co., Ltd | Zibo Lucky Ship International Trading Co., Ltd | 13.76 | 3.22
Qingdao Weipaike Glass Trading Co., Ltd | Zibo Meienlanda International Trading Co., Ltd | 13.76 | 3.22
Xuzhou Hongrun Glass Products Co., Ltd | Zibo Melory Import & Export Trade Co., Ltd | 13.76 | 3.22
Jinan Yida Glass Products Co., Ltd | Zibo Melory Import & Export Trade Co., Ltd | 13.76 | 3.22
Shangdong Mounttai Sheng Li Yuan Glass Co., Ltd | Zibo Modern International Co., Ltd | 13.76 | 3.22
Shandong Hongda Glassware Co., Ltd | Zibo Modern International Co., Ltd | 13.76 | 3.22
Shandong Longyu Glassware Co., Ltd | Zibo Modern International Co., Ltd | 13.76 | 3.22
Xuzhou Supengyongxu Glss Products Co., Ltd | Zibo Modern International Co., Ltd | 13.76 | 3.22
Shandong Aolian Packaging Joint Stock Co., Ltd | Zibo Modern International Co., Ltd | 13.76 | 3.22
Shandong Changshengtai Glass Products Co, Ltd | Zibo Modern International Co., Ltd | 13.76 | 3.22
Shandong Luguan Glassware Co., Ltd | Zibo Redisland General Merchandise Co., Ltd | 13.76 | 3.22
Shandong Xukun Zhaoming Co., Ltd | Zibo Redisland General Merchandise Co., Ltd | 13.76 | 3.22
Jinan Yaotai Light Industrial Products Co., Ltd | Zibo Sailing Pacific Import And Export Co., Ltd | 13.76 | 3.22
Zibo Shirley Light Industrial Products Co., Ltd | Zibo Shelley Trading Co., Ltd | 13.76 | 3.22
Hebei Fangyuan Glass Products Co., Ltd | Zibo Sunfect International Trade Co., Ltd | 13.76 | 3.22
Shandong Changshengtai Glass Products Co., Ltd | Zibo Top Arts Co., Ltd | 13.76 | 3.22
Zibo Top Glass Industry Co., Ltd | Zibo Top Glass Industry Co., Ltd | 13.76 | 3.22
ZiBo Boshan Shengjie Glass Product Co., Ltd | Zibo Top-Peak Enterprises Ltd | 13.76 | 3.22
Zibo Truely Light Industrial Products Co., Ltd | Zibo Truely Light Industrial Products Co., Ltd | 13.76 | 3.22
Shandong Hongda Glassware Co., Ltd | Zibo Uni-Shine Industry Co., Ltd | 13.76 | 3.22
Xuzhou Juhui Glassware Co., Ltd | Zibo Uni-Shine Industry Co., Ltd | 13.76 | 3.22
Xuzhou Dazheng Glassware Co., Ltd | Zibo Uni-Shine Industry Co., Ltd | 13.76 | 3.22
Xuzhou Haoboyang Glass Products Co., Ltd | Zibo Uni-Shine Industry Co., Ltd | 13.76 | 3.22
Zibo Guge Glass Products Co., Ltd | Zibo Uni-Shine Industry Co., Ltd | 13.76 | 3.22
Hejian Fuling Glassware Co., Ltd | Zibo Uni-Shine Industry Co., Ltd | 13.76 | 3.22
Xuzhou Rongheng Glass Products Co., Ltd | Zibo Yadong Import and Export Trade Co., Ltd | 13.76 | 3.22
Zibo Boshan Shengjie Glass Products Co., Ltd | Zibo Yadong Import and Export Trade Co., Ltd | 13.76 | 3.22
Zibo Yede Light Industrial Products Co., Ltd | Zibo Yadong Import and Export Trade Co., Ltd | 13.76 | 3.22
Shandong Longyu Glass Products Co., Ltd | Zibo Yadong Import and Export Trade Co., Ltd | 13.76 | 3.22
Shandong Hongda Glass Products Co., Ltd | Zibo Yuedai Shangmao Company Ltd | 13.76 | 3.22
Zibo Baoquan Light Industrial Products Co., Ltd | Zibo Yuedai Shangmao Company Ltd | 13.76 | 3.22
Shandong Juli Glass Co., Ltd | Zibo Yuedai Shangmao Company Ltd | 13.76 | 3.22
Zibo Boshan Shengjie Glass Products Co., Ltd | Zibo Yuedai Shangmao Company Ltd | 13.76 | 3.22
Xuzhou Xi'ao Glass Products Co., Ltd | Zibo Yuedai Shangmao Company Ltd | 13.76 | 3.22
Shandong Pingping Anan Trading Co., Ltd | Zibo Yuedai Shangmao Company Ltd | 13.76 | 3.22
Xuzhou Yichen Glass Products Co., Ltd | Zibo Yuedai Shangmao Company Ltd | 13.76 | 3.22
Shandong Taishan Shengliyuan Glass Co., Ltd | Zibo Yuedai Shangmao Company Ltd | 13.76 | 3.22
Zibo Mingxuan Light Industrial Products Co., Ltd | Zibo Yuedai Shangmao Company Ltd | 13.76 | 3.22
Zibo Yufeng Arts & Crafts Factory | Zibo Yuedai Shangmao Company Ltd | 13.76 | 3.22
Zibo Jiewei Light Industrial Products Co., Ltd | Zibo Yuedai Shangmao Company Ltd | 13.76 | 3.22
Zibo Boshan Fujie Metal Crafts Factory | Zibo Yuedai Shangmao Company Ltd | 13.76 | 3.22
Cixi Shunrun Plastic Product Factory | Zibo Yuedai Shangmao Company Ltd | 13.76 | 3.22
Zibo Xuanye Industry and Trade Co., Ltd | Zibo Yuedai Shangmao Company Ltd | 13.76 | 3.22
Xuzhou Tianyi Zhigai Co., Ltd | Zibo Yuedai Shangmao Company Ltd | 13.76 | 3.22
Zibo Xinshun Light Industrial Products Factory | Zibo Yuedai Shangmao Company Ltd | 13.76 | 3.22
Cixi Xinju Plastic Product Factory | Zibo Yuedai Shangmao Company Ltd | 13.76 | 3.22
Yiwu Hongzhi Jewelry Co., Ltd | Zibo Yuedai Shangmao Company Ltd | 13.76 | 3.22
Shandong Fulong Glass Technology Co., Ltd | Zibo Zhaohai Light Industrial Products Co., Ltd | 13.76 | 3.22
Shandong Taishan Shengliyuan Glass Co., Ltd | Zibo Zhaohai Light Industrial Products Co., Ltd | 13.76 | 3.22
Changshengtai Glass Products Co., Ltd | Zibo Zhaohai Light Industrial Products Co., Ltd | 13.76 | 3.22
China-wide Entity | China-wide Entity | 255.68 | 245.14

Suspension of Liquidation

In accordance with section 733(d)(2) of the Act, Commerce will direct U.S. Customs and Border Protection (CBP) to suspend liquidation of subject merchandise as described in the scope of the investigation section entered, or withdrawn from warehouse, for consumption on or after the date of publication of this notice in the Federal Register, as discussed below. Further, pursuant to section 733(d)(1)(B) of the Act and 19 CFR 351.205(d), Commerce will instruct CBP to require a cash deposit equal to the weighted average amount by which NV exceeds U.S. price, as indicated in the table above as follows: (1) For the producer/exporter combinations listed in the table above, the cash deposit rate is equal to the estimated weighted-average dumping margin listed for that combination in the table; (2) for all combinations of China producers/exporters of merchandise under consideration that have not established eligibility for their own separate rates, the cash deposit rate will be equal to the estimated weighted-average dumping margin established for the China-wide entity; and (3) for all third-country exporters of merchandise under consideration not listed in the table above, the cash deposit rate is the cash deposit rate applicable to the China producer/exporter combination (or the China-wide entity) that supplied that third-country exporter.

To determine the cash deposit rate, Commerce normally adjusts the estimated weighted-average dumping margin by the amount of domestic subsidy pass-through and export subsidies determined in a companion countervailing duty (CVD) proceeding when CVD provisional measures are in effect. Accordingly, where Commerce made a preliminary affirmative determination for domestic subsidy pass-through or export subsidies, Commerce has offset the calculated estimated weighted-average dumping margin by the appropriate rates. Any such adjusted rates may be found in the Preliminary Determination section's table of estimated weighted-average dumping margins above.

Should provisional measures in the companion CVD investigation expire prior to the expiration of provisional measures in this LTFV investigation, Commerce will direct CBP to begin collecting cash deposits at a rate equal to the estimated weighted-average dumping margins calculated in this preliminary determination unadjusted for export subsidies at the time that the CVD provisional measures expire.

These suspension of liquidation instructions will remain in effect until further notice.

Disclosure

Commerce intends to disclose to interested parties the calculations performed in connection with this preliminary determination within five days of its public announcement or, if there is no public announcement, within five days of the date of publication of this notice in accordance with 19 CFR 351.224(b).

Public Comment

Case briefs or other written comments may be submitted to the Assistant Secretary for Enforcement and Compliance no later than 21 days after the date of publication of the preliminary determination, unless Commerce alters the time limit. Rebuttal briefs, limited to issues raised in case briefs, may be submitted no later than seven days after the deadline for case briefs.⁹ Pursuant to 19 CFR 351.309(c)(2) and (d)(2), parties who submit case briefs or rebuttal briefs in this investigation are encouraged to submit with each argument: (1) A statement of the issue; (2) a brief summary of the argument; and (3) a table of authorities. Note that Commerce has temporarily modified certain of its requirements for serving documents containing business proprietary information, until May 19, 2020, unless extended.¹⁰

⁹ See 19 CFR 351.309; see also 19 CFR 351.303 (for general filing requirements).

¹⁰ See Temporary Rule Modifying AD/CVD Service Requirements Due to COVID-19, 85 FR 17006 (March 26, 2020).

Pursuant to 19 CFR 351.310(c), interested parties who wish to request a hearing, limited to issues raised in the case and rebuttal briefs, must submit a written request to the Assistant Secretary for Enforcement and Compliance, U.S. Department of Commerce, within 30 days after the date of publication of this notice. Requests should contain (1) the party's name, address, and telephone number; (2) the number of hearing participants from the party; (3) whether any participant is a foreign national; and (4) a list of the issues to be discussed. If a request for a hearing is made, Commerce will determine the date, time, and medium for conducting the hearing. Parties should confirm by telephone the date and time of the hearing two days before the scheduled date.

Postponement of Final Determination and Extension of Provisional Measures

Section 735(a)(2) of the Act provides that a final determination may be postponed until not later than 135 days after the date of the publication of the preliminary determination if, in the event of an affirmative preliminary determination, a request for such postponement is made by exporters who account for a significant proportion of exports of the subject merchandise, or in the event of a negative preliminary determination, a request for such postponement is made by the petitioner. Pursuant to 19 CFR 351.210(e)(2), Commerce requires that requests by respondents for postponement of a final antidumping determination be accompanied by a request for extension of provisional measures from a four-month period to a period not more than six months in duration.

On April 13 and 15, 2020, pursuant to 19 CFR 351.210(e), Qixia Changyu and Huaxing requested that Commerce postpone the final determination and that provisional measures be extended to a period not to exceed six months.¹¹ In accordance with section 735(a)(2)(A) of the Act and 19 CFR 351.210(b)(2)(ii), because (1) the preliminary determination is affirmative; (2) the requesting exporters account for a significant proportion of exports of the subject merchandise; and (3) no compelling reasons for denial exist, Commerce is postponing the final determination and extending the provisional measures from a four-month period to a period not greater than six months. Accordingly, Commerce will make its final determination no later than 135 days after the date of publication of this preliminary determination.

¹¹ See Qixia Changyu's Letter, “Certain Glass Containers from the People's Republic of China: Request for Postponement of the Final Determination,” dated April 13, 2020; see also Huaxing's Letter, “Certain Glass Containers from the People's Republic of China: Request to Extend Final Determination and Provisional Measures,” dated April 15, 2020.

International Trade Commission Notification

In accordance with section 733(f) of the Act, Commerce will notify the International Trade Commission (ITC) of its preliminary determination of sales at LTFV. If the final determination is affirmative, the ITC will determine before the later of 120 days after the date of this preliminary determination or 45 days after the final determination whether imports of the subject merchandise are materially injuring, or threaten material injury to, the U.S. industry.

Notification to Interested Parties

This determination is issued and published in accordance with sections 733(f) and 777(i)(1) of the Act and 19 CFR 351.205(c).

Dated: April 22, 2020.
Jeffrey I. Kessler,
Assistant Secretary, for Enforcement and Compliance.

Appendix I

Scope of the Investigation

The merchandise covered by this investigation is certain glass containers with a nominal capacity of 0.059 liters (2.0 fluid ounces) up to and including 4.0 liters (135.256 fluid ounces) and an opening or mouth with a nominal outer diameter of 14 millimeters up to and including 120 millimeters. The scope includes glass jars, bottles, flasks and similar containers; with or without their closures; whether clear or colored; and with or without design or functional enhancements (including, but not limited to, handles, embossing, labeling, or etching).

Excluded from the scope of the investigation are: (1) Glass containers made of borosilicate glass, meeting United States Pharmacopeia requirements for Type 1 pharmaceutical containers; (2) glass containers without “mold seams,” “joint marks,” or “parting lines;” and (3) glass containers without a “finish” (i.e., the section of a container at the opening including the lip and ring or collar, threaded or otherwise compatible with a type of closure to seal the container's contents, including but not limited to a lid, cap, or cork).

Glass containers subject to the investigation are specified within the Harmonized Tariff Schedule of the United States (HTSUS) under subheadings 7010.90.5005, 7010.90.5009, 7010.90.5015, 7010.90.5019, 7010.90.5025, 7010.90.5029, 7010.90.5035, 7010.90.5039, 7010.90.5045, 7010.90.5049, and 7010.90.5055. The HTSUS subheadings are provided for convenience and customs purposes only. The written description of the scope of the investigation is dispositive.

Appendix II

List of Topics Discussed in the Preliminary Decision Memorandum

I. Summary

II. Background

III. Period of Investigation

IV. Postponement of the Final Determination

V. Scope Comments

VI. Scope of the Investigation

VII. Discussion of the Methodology

VIII. Currency Conversion

IX. Adjustment Under Section 777(A)(f) of the Act

X. Adjustments to Cash Deposit Rates for Export Subsidies

XI. Recommendation

[FR Doc. 2020-09090 Filed 4-28-20; 8:45 am]

BILLING CODE 3510-DS-P